MILLENNIUM CHALLENGE CORPORATION

[MCC FR 09-09]

Request for Information From the Private Sector for Malawi Compact Program Development

AGENCY: Millennium Challenge Corporation.

ACTION: Invitation for private sector input.

Authority: 22 U.S.C. 7701 et seq.

SUMMARY: The Millennium Challenge Corporation (“MCC”) is a U.S. Government agency created in 2004 to administer the Millennium Challenge Account. Its mission is to reduce poverty through the promotion of sustainable economic growth. Since 2004, MCC has signed Compact programs with eighteen partner countries ranging from $66 million to $698 million. In April 2009, the Government of Malawi (“GoM”) through “MCA-Malawi” presented a proposal including three projects to MCC for potential Compact funding. This Request for Information (“RFI”) aims to solicit feedback from the private sector on these projects.

SUPPLEMENTARY INFORMATION: This solicitation has the following objectives: (a) Share best practices and private sector experiences on similar projects from other countries; (b) Generate opportunities for leverage of Compact funds with private sector financing, trade, and investment; and (c) Solicit information about opportunities and challenges facing businesses in the sectors which have been identified for possible Compact projects.

This solicitation is focused on the three following project proposals, which are posted publicly in full detail at http://www.mca-m.gov.mw/index.php/concept-papers/81:

□ The proposed “Energy” project would fund increased availability of reliable and quality power, access to power, efficient power service delivery, and improved natural resources management.

□ The proposed “Transport” project would fund more reliable, efficient and affordable transport options through road and rail investments.

□ The proposed “Governance” project would fund improvements to the public financial management and budget oversight system as well as assistance to GoM anti-corruption agencies.

Where possible, respondents are encouraged to provide information based on experience in the country. Experiences from other countries may also be applicable. MCA-Malawi may use information provided by the private sector to structure projects for Compact funding.

FOR FURTHER INFORMATION: Visit http://www.mca-rn.gov.mw/. Responses to and questions about this Request for Information should be e-mailed to info@mca-m.gov.mw and to psi@mcc.gov.

DATES: Companies, other organizations, and individuals are invited to submit responses on or before Friday, May 15, 2009.

Dated: April 30, 2009.
Jeri Jensen,
Managing Director for Private Sector Initiatives, Millennium Challenge Corporation.

[FR Doc. E9-10347 Filed 5-5-09; 8:45 am]

BILLING CODE 9211-03-M